Title 3—

The President

Memorandum of June 29, 2021

Delegation of Certain Functions and Authorities Under the Women, Peace, and Security Act of 2017

Memorandum for the Secretary of State[,] the Secretary of Defense[,] the Secretary of Homeland Security[, and] the Administrator of the United States Agency for International Development

By the authority vested in me as President by the Constitution and the laws of the United States of America, including section 301 of title 3, United States Code, I hereby delegate to the Secretary of State, in coordination with the Secretary of Defense, the Secretary of Homeland Security, and the Administrator of the United States Agency for International Development, the authority to submit to the Congress the reports required by sections 5(a) and 8(b) of the Women, Peace, and Security Act of 2017 (Public Law 115-68).

The delegation of authority provided in this memorandum shall apply to any provisions of any future public laws that are the same or substantially the same as those provisions referenced in this memorandum.

The Secretary of State is authorized and directed to publish this memorandum in the Federal Register.

THE WHITE HOUSE,

Washington, June 29, 2021

[FR Doc. 2021-14498

Filed 7-2-21; 8:45 am]

Billing code 4710-10-P